DEPARTMENT OF ENERGY

Federal Energy Regulatory Commission

Sunshine Act, Meetings

September 24, 2003.

The following notice of meeting is published pursuant to section 3(a) of the government in the Sunshine Act (Pub. L. No. 94-409), 5 U.S.C. 552b:

Agency Holding Meeting: Federal Energy Regulatory Commission.

Date and Time: October 1, 2003, 10 a.m.

Place: Room 2C, 888 First Street, NE., Washington, DC 20426.

Status: Open.

Matters to be Considered: Agenda, *Note—Items Listed on the Agenda May Be Deleted Without Further Notice.

FOR FURTHER INFORMATION CONTACT: Magalie R. Salas, Secretary, Telephone (202) 502-8400, for a Recording Listing Items, Stricken from or Added to the Meeting, Call (202) 502-8627.

This is a List of matters to be considered by the commission. It does not include a listing of all papers relevant to the items on the agenda; however, all public documents may be examined in the reference and information center.

840th—Meeting October 1, 2003, Regular Meeting 10 A.M.

Administrative Agenda

A-1.

Docket#, AD02-1,000, Agency Administrative Matters

A-2.

Docket#, AD02-7,000, Customer Matters, Reliability, Security and Market Operations

Markets, Tariffs and Rates—Electric

E-1.

Docket#, EL03-133,000, American Ref-Fuel Company, Covanta Energy Group, Montenay Power Corporation, and Wheelabrator Technologies Inc.

E-2.

Docket#, EL03-132,000, Entergy Services, Inc.

E-3.

Docket#, EL03-212,001, Ameren Services Company on behalf of: Union Electric Company and Central Illinois Public Service Company American Electric Power Service Corporation on behalf of: Appalachian Power Company, Columbus Southern Power Company, Indiana Michigan Power Company, Kentucky Power Company, Kingsport Power Company, Ohio Power Company and Wheeling Power Company. Dayton Power and Light Company Exelon Corporation on behalf of: Commonwealth Edison Company and Commonwealth Edison Company of Indiana, Inc. FirstEnergy Corporation on behalf of: American Transmission Systems, Inc. Illinois Power Company and Northern Indiana Public Service Company.

Other#s EL03-212,000, Ameren Services Company on behalf of: Illinois Public Service Company American Electric Power Service Corporation on behalf of: Appalachian Power Company, Columbus Southern Power Company, Indiana Michigan Power Company, Kentucky Power Company, Kingsport Power Company, Ohio Power Company and Wheeling Power Company. Dayton Power and Light Company Exelon Corporation on behalf of: Commonwealth Edison Company and Commonwealth Edison Company of Indiana, Inc. FirstEnergy Corporation on behalf of: American Transmission Systems, Inc. Illinois Power Company and Northern Indiana Public Service Company.

E-4.

Omitted

E-5.

Omitted

E-6.

Omitted

E-7.

Omitted

E-8.

Omitted

E-9.

Docket# ER03-872,000, Southern Company Services, Inc.

Other#s ER03-872,001, Southern Company Services, Inc. Corporation.

E-10.

Docket# ER01-2658,000, American Electric Power Service Corporation.

Other#s EL00-79,000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc. v. AEP Texas North Company.

EL01-113,000, Mid-Tex G&T Electric Cooperative, Inc. Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc. v. AEP Texas North Company.

EC01-130,000, American Electric Power Service Corporation.

ER01-2658,001, American Electric Power Service Corporation.

ER01-2668,000, American Electric Power Company, Inc.

ER01-2977,000, American Electric Power Service Corporation.

ER01-2977,001, American Electric Power Service Corporation.

ER01-2980, 000, American Electric Power Company.

ER01-2980, 001, American Electric Power Company.

EL02-24, 000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc. v. AEP Texas North Company.

ER02-371, 000, American Electric Power Service Corporation.

ER02-371, 001, American Electric Power Service Corporation.

ER02-371, 002, American Electric Power Service Corporation.

ER02-602, 000, American Electric Power Service Corporation.

ER02-602, 001, American Electric Power Service Corporation.

ER02-1216, 000, American Electric Power Service Corporation.

ER02-1410, 000, West Texas Utilities Company

E-11.

Omitted

E-12.

Omitted

E-13.

Omitted

E-14.

Omitted

E-15.

Omitted

E-16.

Docket# ER02-851, 005, Southern Company Services, Inc.

Other#s ER02-851, 006, Southern Company Services, Inc.

ER02-851, 007, Southern Company Services, Inc.

ER02-851, 009, Southern Company Services, Inc.

E-17.

Omitted

E-18.

Docket# ER02-1963, 000, Midwest Independent Transmission System Operator, Inc.

Other#s ER02-1963, 001, Midwest Independent Transmission System Operator, Inc.

E-19.

Docket# OA96-138, 000, Consolidated Edison Company of New York, Inc.

E-20.

Docket# EC03-110, 000, Texas-New Mexico Power Company and Southern New Mexico Electric Company.

Other#s EC03-110, 001, Texas-New Mexico Power Company and Southern New Mexico Electric Company.

E-21.

Docket# FA88-62, 003, Wisconsin Electric Power Company.

Other#s EL94-16, 002, Wisconsin Electric Power Company.

E-22.

Omitted

E-23.

Docket# EL00-111, 005, Cities of Anaheim, Azusa, Banning, Colton and Riverside, California v. California Independent System Operator Corporation.

Other#s EL00-111, 006, Cities of Anaheim, Azusa, Banning, Colton and Riverside, California v. California Independent System Operator Corporation.

EL01-84, 001, Salt River Project Agricultural Improvement and Power District v. California Independent System Operator Corporation.

EL01-84, 002, Salt River Project Agricultural Improvement and Power District v. California Independent System Operator Corporation.

ER01-607, 004, California Independent System Operator Corporation.

E-24.

Omitted

E-25.

Omitted

E-26.

Docket# ER03-753, 001, Entergy Services, Inc.

E-27.

Omitted

E-28.

Docket# ER03-355, 002, Southern Company Services, Inc.

Other#s ER03-355, 003, Southern Company Services, Inc.

E-29.

Omitted

E-30.

Docket# ER02-2233, 009, Ameren Services Company, First Energy Corp., Northern Indiana Public Service Company, National Grid USA, and Midwest Independent System Operator, Inc.

E-31.

Omitted

E-32.

Omitted

E-33.

Docket# ER03-811, 001, Entergy Services, Inc.

E-34.

Omitted

E-35.

Omitted

E-36.

Docket# ER02-2330, 015, New England Power Pool.

Other#s ER02-2330, 016, New England Power Pool.

ER02-2330, 017, New England Power Pool.

E-37.

Omitted

E-38.

Docket# EL03-51, 000, North Hartland, LLC.

E-39.

Docket# OA03-9, 000, Florida Power & Light Company.

Other#s OA03-10, 000, Florida Power & Light Company.

E-40.

Docket# EL03-218, 000, Wisconsin Energy Corporation, Wisconsin Electric Power Company, W.E. Power LLC and Port Washington Generating Station LLC.

E-41.

Omitted

E-42.

Docket# EL02-75, 000, Duke Energy Trading & Marketing, LLC v. Entergy Arkansas, Inc., Entergy Gulf States, Inc., Entergy Mississippi, Inc., Entergy Louisiana, Inc., Entergy New Orleans, Inc., and Entergy Services, Inc.

E-43.

Docket# EL03-215, 000, North Hartland, LLC v. Central Vermont Public Service Corporation.

E-44.

Docket# AC03-46, 000, First Energy Companies: Cleveland Electric Illuminating Company, Ohio Edison Company, Pennsylvania Power Company and Toledo Edison Company.

E-45.

Omitted

E-46.

Docket# TX96-2, 008, City of College Station, Texas.

Other#s TX96-2, 004, City of College Station, Texas.

TX96-2, 005, City of College Station, Texas.

TX96-2, 007, City of College Station, Texas.

TX96-2, 001, City of College Station, Texas.

TX96-2, 006, City of College Station, Texas.

E-47.

Docket# PA02-2, 000, Fact-Finding Investigation of Potential Manipulation of Electric and Natural Gas Prices.

Other#s PA03-1, 000, American Electric Power Co.

PA03-2, 000, Aquila Marketing Service.

PA03-3, 000, Coral Energy Resources, L.P.

PL03-3, 000, Price Discovery in Natural Gas and Electric Markets.

PA03-4, 000, CMS Marketing Services & Trading.

PA03-5, 000, Dynegy Inc.

PA03-6, 000, Duke Energy Trading & Marketing, LLC.

AD03-7, 000, Natural Gas Price Formation.

PA03-7, 000, El Paso Merchant Energy, L.P.

PA03-8, 000, Mirant Americas Energy Marketing, LP.

PA03-9, 000, Reliant Resources, Inc.

IN03-10, 000, Investigation of Anomalous Bidding. Behavior and Practices in the Western Markets.

PA03-10, 000, Sempra Energy Trading Corp.

PA03-11, 000, Williams Energy Marketing & Trading Company.

EL03-59, 000, Reliant Energy Services, Inc.

EL03-60, 000, BP Energy Company.

EL03-77, 000, Enron Power Marketing, Inc. and Enron Energy Services, Inc.

RP03-311, 000, Bridgeline Gas Marketing L.L.C. Citrus Trading Corporation, ENA Upstream Company, LLC, Enron Canada Corp., Enron Compression Services Company, Enron Energy Services, Inc., Enron MW, LLC and Enron North America Corp.

E-48.

Docket# ER03-1048, 000, Midwest Independent Transmission System Operator, Inc.

Other#s ER03-1048, 001, Midwest Independent Transmission System Operator, Inc.

Markets, Tariffs and Rates—Gas

G-1.

Omitted

G-2.

Docket# RP02-74, 000, Enbridge Pipelines (KPC).

Other#s RP03-90, 000, Enbridge Pipelines (KPC).

G-3.

Docket# CP03-297, 000, Northwest Natural Gas Company.

G-4.

Docket# RP03-356, 000, Southern Star Central Gas Pipeline, Inc.

G-5.

Omitted

G-6.

Docket# RP03-47, 001, Gulf South Pipeline Company, LP.

G-7.

Docket# RP03-282, 001, Columbia Gas Transmission Corporation.

G-8.

Omitted

G-9.

Omitted

G-10.

Omitted

G-11.

Omitted

G-12.

Docket# RP03-312, 002, Calpine Energy Services, L.P. v. Southern Natural Gas Company.

G-13.

Omitted

G-14.

Docket# RP00-468, 012, Texas Eastern Transmission, LP.

Other#s RP00-468, 013, Texas Eastern Transmission, LP.

RP00-468, 011, Texas Eastern Transmission, LP.

RP01-25, 010, Texas Eastern Transmission, LP.

RP01-25, 011, Texas Eastern Transmission, LP.

RP01-25, 012, Texas Eastern Transmission, LP.

RP01-175, 005, Texas Eastern Transmission, LP.

RP03-175, 006, Texas Eastern Transmission, LP.

RP03-175, 007, Texas Eastern Transmission, LP.

G-15.

Docket# RP00-495, 006, Texas Gas Transmission Corporation.

Other#s RP00-495, 005, Texas Gas Transmission Corporation.

RP01-97, 004, Texas Gas Transmission Corporation.

RP01-97, 005, Texas Gas Transmission Corporation.

RP03-211, 001, Texas Gas Transmission Corporation.

RP03-211, 002, Texas Gas Transmission Corporation.

G-16.

Docket# TM99-6-29, 005, Transcontinental Gas Pipe Line Corporation.

Other#s TM99-6-29, 006, Transcontinental Gas Pipe Line Corporation.

RP00-209, 003, Transcontinental Gas Pipe Line Corporation.

RP00-209, 004, Transcontinental Gas Pipe Line Corporation.

RP01-253, 006, Transcontinental Gas Pipe Line Corporation.

RP01-171, 003, Transcontinental Gas Pipe Line Corporation.

RP02-171, 004, Transcontinental Gas Pipe Line Corporation.

G-17.

Omitted

G-18.

Docket# RP03-245, 000, Kinder Morgan Interstate Gas Transmission LLC.

Energy Projects—Hydro

H-1.

Omitted

H-2.

Omitted

H-3.

Docket# P-11899, 002, Symbiotics, LLC.

Other#s P-12058, 001, Baker County, Oregon.

H-4.

Omitted

H-5.

Docket# P-2651, 033, Indiana Michigan Power Company.

H-6.

Docket# P-2816, 021, Vermont Electric Generation & Transmission Cooperative, Inc. and North Hartland, LLC.

H-7.

Docket# P-12200, 001, McKay Hydro, LLC.

H-8.

Docket# P-344, 014, Southern California Edison Company.

H-9.

Docket# P-2942, 005, S. D. Warren Company.

H-10.

Docket# P-2931, 002, S. D. Warren Company.

H-11.

Docket# P-2932, 003, S. D. Warren Company.

H-12.

Docket# P-2941, 002, S. D. Warren Company.

H-13.

Docket# P-2897, 003, S. D. Warren Company.

Other#s P-2932, 003, S. D. Warren Company.

P-2941, 002, S. D. Warren Company.

P-2931, 002, S. D. Warren Company.

P-2942, 005, S. D. Warren Company.

H-14.

Omitted

H-15.

Docket# P-2543, 059, Clark Fork and Blackfoot, LLC.

H-16.

Docket# P-1494, 232, Grand River Dam Authority.

Energy Projects—Certificates

C-1.

Docket# CP03-76, 000, Norteno Pipeline Company and OkTex Pipeline Company.

Other#s CP03-99, 000, Norteno Pipeline Company and OkTex Pipeline Company.

CP03-100, 000, Norteno Pipeline Company and OkTex Pipeline Company.

C-2.

Docket# CP01-421, 000, Portland General Electric Company.

Other#s CP01-421, 001, Portland General Electric Company.

C-3.

Docket# CP03-323, 000, Pinnacle Pipeline Company.

Other#s CP03-324, 000, Pinnacle Pipeline Company.

CP03-325, 000, Pinnacle Pipeline Company.

C-4.

Docket# CP03-33, 000, Wyckoff Gas Storage Company, LLC.

Other#s CP03-34, 000, Wyckoff Gas Storage Company, LLC.

CP03-35, 000, Wyckoff Gas Storage Company, LLC.

CP03-79, 000, National Fuel Gas Supply Corporation.

C-5.

Docket# CP01-418, 000, B-R Pipeline Company.

C-6.

Docket# CP00-6, 010, Gulfstream Natural Gas System, L.L.C.

C-7.

Docket# CP03-80, 000, Eastern Shore Natural Gas Company.

C-8.

Docket# CP03-329, 000, Columbia Gas Transmission Corporation.

C-9.

Docket# CP01-415, 010, East Tennessee Natural Gas Company.

Other#s CP01-415, 011, East Tennessee Natural Gas Company.

CP01-415, 012, East Tennessee Natural Gas Company.

CP01-415, 013, East Tennessee Natural Gas Company.

CP01-415, 015, East Tennessee Natural Gas Company.

Magalie R. Salas,
Secretary.

[FR Doc. 03-24953 Filed 9-26-03; 4:23 pm]

BILLING CODE 6717-01-P